ENVIRONMENTAL PROTECTION AGENCY

[FRL-9930-97-Region 3]

Delegation of Authority To Implement and Enforce Outer Continental Shelf Air Regulations to the Maryland Department of the Environment

AGENCY: Environmental Protection Agency (EPA).

ACTION: Notice of delegation of authority.

SUMMARY: On April 4, 2014, the Environmental Protection Agency (EPA) sent the Maryland Department of the Environment (MDE) a letter acknowledging MDE has been delegated the authority to implement and enforce sections of the Outer Continental Shelf (OCS) Air Regulations. To inform regulated facilities and the public of MDE's delegation of authority to implement and enforce OCS regulations, EPA is making available a copy of EPA's letter to MDE through this notice.

DATES: On April 4, 2014, EPA sent MDE a letter acknowledging MDE has been delegated the authority to implement and enforce OCS Regulations.

ADDRESSES: Copies of documents pertaining to this action are available for public inspection during normal business hours at the Air Protection Division, U.S. Environmental Protection Agency, Region III, 1650 Arch Street, Philadelphia, Pennsylvania 19103-2029. Copies of the State submittal are available at the Maryland Department of the Environment, 1800 Washington Boulevard, Suite 705, Baltimore, Maryland 21230.

FOR FURTHER INFORMATION CONTACT: Cathleen Kennedy Van Osten, (215) 814-2746, or by email at vanosten.cathleen@epa.gov.

SUPPLEMENTARY INFORMATION: On January 8, 2014, MDE requested delegation of authority to implement, administer, and enforce Title 40 of the Code of Federal Regulations, Part 55 (Outer Continental Shelf Air Regulations). On April 4, 2014, EPA sent MDE a letter acknowledging that MDE has been delegated the authority to implement and enforce OCS regulations. A copy of EPA's letter to MDE follows:

“The Honorable Robert M. Summers, Secretary

Maryland Department of the Environment

1800 Washington Boulevard

Baltimore, Maryland 21230

Dear Secretary Summers:

Thank you for your January 8, 2014 letter to the U.S. Environmental Protection Agency (EPA) requesting formal delegation of authority for the implementation, administration, and enforcement of the requirements of the Outer Continental Shelf (OCS) regulations within 25 miles of Maryland's seaward boundary. In response, EPA intends to grant the Maryland Department of the Environment (MDE) formal delegation of authority to implement and enforce OCS Regulations, pursuant to section 328(a)(3) of the Clean Air Act. As established in the Code of Federal Regulations, Title 40, Part 55 (40 CFR part 55), EPA will delegate implementation and enforcement authority to a state if the state has an adjacent OCS source, and EPA determines that the state's regulations are adequate. EPA has determined that delegation to a state shall be immediately effective upon EPA's receipt of a notice of intent (NOI) to construct an OCS source to be adjacent to that state.

The delegation will include the authority for the following sections of 40 CFR part 55, as exists on July 1, 2013:

• 55.1 Statutory authority and scope.

• 55.2 Definitions.

• 55.3 Applicability.

• 55.4 Requirements to submit a notice of intent.

• 55.6 Permit requirements.

• 55.7 Exemptions.

• 55.8 Monitoring, reporting, inspections, and compliance.

• 55.9 Enforcement.

• 55.10 Fees.

• 55.13 Federal requirements that apply to OCS sources.

• 55.14 Requirements that apply to OCS sources located within 25 miles of States' seaward boundaries, by State.

• 55.15 Specific designation of corresponding onshore areas.

• Appendix A to Part 55—Listing of State and Local Requirements Incorporated by Reference Into Part 55, by State.

EPA is not delegating the authority to implement and enforce 40 CFR part 55.5 (Corresponding onshore area designation), 55.11 (Delegation), and 55.12 (Consistency updates), as authority for these sections is reserved for the Administrator. As stated in 40 CFR Part 55.11 (b), EPA shall delegate implementation and enforcement authority if it is determined that the State's regulations are adequate, including a demonstration by the state that the state has:

(1) Adopted the appropriate portions of 40 CFR part 55 into state law;

(2) Submitted a letter from the State Attorney General confirming that Maryland has adequate authority under the state law to implement and enforce the relevant portions of 40 CFR part 55;

(3) Adequate resources to implement and enforce the requirements of 40 CFR part 55; and

(4) Adequate administrative procedures to implement and enforce the requirements of this part, including public notice and comment procedures.

EPA has reviewed MDE's delegation request and concludes that it meets the requirements for delegation. Therefore, delegation will be effective on the date EPA receives a NOI of constructing an OCS source adjacent to Maryland. On this date, MDE will automatically be authorized to implement, administer, and enforce the sections of 40 CFR part 55 listed above for the OCS sources in which Maryland will be the corresponding onshore area.

I appreciate MDE's efforts to implement the OCS regulations and look forward to working with you to foster the growth of alternative energy projects in Maryland. If you have any questions, please do not hesitate to contact me or have your staff contact Ms. Linda Miller, Maryland Liaison, at 215-814-2068.

Sincerely,

Shawn M. Garvin

Regional Administrator”

This notice acknowledges that MDE has been delegated the authority to implement and enforce OSC Air Regulations.

Dated: July 10, 2015.
William C. Early,
Acting, Regional Administrator, Region III.

[FR Doc. 2015-17850 Filed 7-20-15; 8:45 am]

BILLING CODE 6560-50-P